DEPARTMENT OF DEFENSE

Department of the Air Force

[Docket ID: USAF-2011-0014]

Privacy Act of 1974; System of Records

AGENCY: Department of the Air Force, DoD.

ACTION: Notice to alter a system of records.

SUMMARY: The Department of the Air Force proposes to alter a system of records in its inventory of record systems subject to the Privacy Act of 1974 (5 U.S.C. 552a), as amended.

DATES: The proposed action will be effective on May 23, 2011 unless comments are received that would result in a contrary determination.

ADDRESSES: You may submit comments, identified by docket number and/RIN number and title, by any of the following methods:

• Federal Rulemaking Portal: http://www.regulations.gov Follow the instructions for submitting comments.

• Mail: Federal Docket Management System Office, 1160 Defense Pentagon, OSD Mailroom 3C843, Washington, DC 20301-1160.

Instructions: All submissions received must include the agency name and docket number or Regulatory Information Number (RIN) for this Federal Register document. The general policy for comments and other submissions from members of the public is to make these submissions available for public viewing on the Internet at http://www.regulations.gov as they are received without change, including any personal identifiers or contact information

FOR FURTHER INFORMATION CONTACT: Mr. Charles J. Shedrick, 703-696-6488, or Department of the Air Force Privacy Office, Air Force Privacy Act Office, Office of Warfighting Integration and Chief Information Officer, ATTN: SAF/CIO A6, 1800 Air Force Pentagon, Washington DC 20330-1800.

SUPPLEMENTARY INFORMATION: The Department of the Air Force's notices for systems of records subject to the Privacy Act of 1974 (5 U.S.C. 552a), as amended, have been published in the Federal Register and are available from the address above.

The proposed systems reports, as required by 5 U.S.C. 552a(r) of the Privacy Act, were submitted on April 15, 2011 to the House Committee on Oversight and Government Reform, the Senate Committee on Homeland Security and Governmental Affairs, and the Office of Management and Budget (OMB) pursuant to paragraph 4c of Appendix I to OMB Circular No. A-130, “Federal Agency Responsibilities for Maintaining Records About Individuals,” dated February 8, 1996, (February 20, 1996, 61 FR 6427).

Dated: April 19, 2011.
Morgan F. Park,
Alternate OSD Federal Register Liaison Officer, Department of Defense.

F011 ACC A

System Name:

Air-to-Air Weapon System Evaluation Program (June 11, 1997, 62 FR 31793).

Changes:

* * * * *

System Location:

Delete entry and replace with “The 83d Fighter Weapons Squadron, Analysis Division, Building 226, 1287 Florida Avenue, Tyndall Air Force Base, FL 32403-5217.”

Categories of individuals covered by the system:

Delete entry and replace with “Air Force pilots and aircrew members who have live-fired missiles in the Air-to-Air Weapon System Evaluation Program.”

* * * * *

Storage:

Delete entry and replace with “Maintained in file folders and computer storage media.”

* * * * *

System Manager(s) and address:

Delete entry and replace with “Commander, 83d Fighter Weapons Squadron, Analysis Division, Building 226, 1287 Florida Avenue, Tyndall Air Force Base, FL 32403-5217.”

Notification procedure:

Delete entry and replace with “Individuals seeking to determine whether this system of records contains information on themselves should address inquiries to Commander, 83d Fighter Weapons Squadron, Analysis Division, Building 226, 1287 Florida Avenue, Tyndall Air Force Base, FL 32403-5217.

For verification purposes, individual should provide their full name, Social Security Number (SSN), any details which may assist in locating records, and their signature.

In addition, the requester must provide a notarized statement or an unsworn declaration made in accordance with 28 U.S.C. 1746, in the following format:

If executed outside the United States:

`I declare (or certify, verify, or state) under penalty of perjury under the laws of the United State of America that the foregoing is true and correct. Executed on (date). (Signature)'.

If executed within the United States, its territories, possessions, or commonwealths: `I declare (or certify, verify, or state) under penalty of perjury that the foregoing is true and correct. Executed on (date). (Signature)'.”

Record access procedures:

Delete entry and replace with “Individuals seeking access to information about themselves contained in this system should address written inquiries to the Commander, 83d Fighter Weapons Squadron, Analysis Division, Building 226, 1287 Florida Avenue, Tyndall Air Force Base, FL 32403-5217.

For verification purposes, individual should provide their full name, Social Security Number (SSN), any details which may assist in locating records, and their signature.

In addition, the requester must provide a notarized statement or an unsworn declaration made in accordance with 28 U.S.C. 1746, in the following format:

If executed outside the United States:

`I declare (or certify, verify, or state) under penalty of perjury under the laws of the United States of America that the foregoing is true and correct. Executed on (date). (Signature)'.

If executed within the United States, its territories, possessions, or commonwealths: `I declare (or certify, verify, or state) under penalty of perjury that the foregoing is true and correct. Executed on (date). (Signature)'.”

* * * * *

F011 ACC A

System name:

Air-to-Air Weapon System Evaluation Program Records

System location:

The 83d Fighter Weapons Squadron, Analysis Division, Building 226, 1287 Florida Avenue, Tyndall Air Force Base, FL 32403-5217.

Categories of individuals covered by the system:

Air Force pilots and aircrew members who have live-fired missiles in the Air-to-Air Weapon System Evaluation Program.

Categories of records in the system:

Name, Social Security Number (SSN), unit of assignment, and flying experience information.

Authority for maintenance of the system:

10 U.S.C. 8013, Secretary of the Air Force; Powers and Duties, delegation by; as implemented by Air Force Regulation 55-11, Programming of Requirements and Reporting Expenditures for Missile/Targets in Noncombat Firing Programs; and E.O. 9397 (SSN), as amended.

Purpose(s):

Used to measure program goals that dictate maximizing aircrew participation during their first fighter assignment tour. Personal data is also used to determine the effects of experience and training on Air-to-Air weapons employment.

Routine uses of records maintained in the system, including categories of users and the purposes of such uses:

In addition to those disclosures generally permitted under 5 U.S.C. 552a(b) of the Privacy Act of 1974, these records contained therein may specifically be disclosed outside the DoD as a routine use pursuant to 5 U.S.C. 552a(b)(3) as follows:

The DoD `Blanket Routine Uses' published at the beginning of the Air Force's compilation of system of records notices apply to this system.

Policies and practices for storing, retrieving, accessing, retaining, and disposing of records in the system:

Storage:

Maintained in file folders and computer storage media.

Retrievability:

Retrieved by name and/or Social Security Number (SSN).

Safeguards:

Records are accessed by person(s) responsible for servicing the record system in performance of their official duties and by authorized personnel who are properly screened and cleared for need-to-know. Records are stored in locked rooms, safes and cabinets. Those in computer storage devices are protected by computer system software, which is Common Access Card (CAC) enabled.

Retention and disposal:

Paper records are retained for one year after data is entered in computer then destroyed by tearing into pieces, shredding, macerating, or burning. Electronic records are maintained indefinitely.

System manager(s) and address:

Commander, 83d Fighter Weapons Squadron, Analysis Division, Building 226, 1287 Florida Avenue, Tyndall Air Force Base, FL 32403-5217.

Notification procedure:

Individuals seeking to determine whether this system of records contains information on themselves should address inquiries to Commander, 83d Fighter Weapons Squadron, Analysis Division, Building 226, 1287 Florida Avenue, Tyndall Air Force Base, FL 32403-5217.

For verification purposes, individual should provide their full name, Social Security Number (SSN), any details which may assist in locating records, and their signature.

In addition, the requester must provide a notarized statement or an unsworn declaration made in accordance with 28 U.S.C. 1746, in the following format:

If executed outside the United States:

`I declare (or certify, verify, or state) under penalty of perjury under the laws of the United State of America that the foregoing is true and correct. Executed on (date). (Signature)'.

If executed within the United States, its territories, possessions, or commonwealths: `I declare (or certify, verify, or state) under penalty of perjury that the foregoing is true and correct. Executed on (date). (Signature)'.

Record access procedures:

Individuals seeking access to information about themselves contained in this system should address written inquiries to the Commander, 83d Fighter Weapons Squadron, Analysis Division, Building 226, 1287 Florida Avenue, Tyndall Air Force Base, FL 32403-5217.

For verification purposes, individual should provide their full name, Social Security Number (SSN), any details which may assist in locating records, and their signature.

In addition, the requester must provide a notarized statement or an unsworn declaration made in accordance with 28 U.S.C. 1746, in the following format:

If executed outside the United States:

`I declare (or certify, verify, or state) under penalty of perjury under the laws of the United States of America that the foregoing is true and correct. Executed on (date). (Signature)'.

If executed within the United States, its territories, possessions, or commonwealths: `I declare (or certify, verify, or state) under penalty of perjury that the foregoing is true and correct. Executed on (date). (Signature)'.

Contesting record procedures:

The Air Force rules for accessing records, and for contesting contents and appealing initial agency determinations are published in Air Force Instruction 37-132; 32 CFR part 806b; or may be obtained from the system manager.

Record source categories:

Information for this system is obtained from forms completed by aircrew members.

Exemptions claimed for the system:

None.

[FR Doc. 2011-9754 Filed 4-21-11; 8:45 am]

BILLING CODE 5001-06-P